DEPARTMENT OF THE TREASURY

Office of Foreign Assets Control

Unblocking of Specially Designated Nationals and Blocked Persons Pursuant to Executive Order 12978

AGENCY: Office of Foreign Assets Control, Treasury.

ACTION: Notice.

SUMMARY: The Treasury Department's Office of Foreign Assets Control (“OFAC”) is publishing the names of 23 individuals and entities whose property and interests in property have been unblocked pursuant to Executive Order 12978 of October 21, 1995, Blocking Assets and Prohibiting Transactions With Significant Narcotics Traffickers.

DATES: The unblocking and removal from the list of Specially Designated Nationals and Blocked Persons (“SDN List”) of the 23 individuals and entities identified in this notice whose property and interests in property were blocked pursuant to Executive Order 12978 of October 21, 1995, is effective on October 30, 2009.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

This document and additional information concerning OFAC are available from OFAC's Web site (http://www.treas.gov/ofac) or via facsimile through a 24-hour fax-on demand service, tel.: (202) 622-0077.

Background

On October 21, 1995, the President, invoking the authority, inter alia, of the International Emergency Economic Powers Act (50 U.S.C. 1701-1706) (“IEEPA”), issued Executive Order 12978 (60 FR 54579, October 24, 1995) (the “Order”). In the Order, the President declared a national emergency to deal with the threat posed by significant foreign narcotics traffickers centered in Colombia and the harm that they cause in the United States and abroad.

Section 1 of the Order blocks, with certain exceptions, all property and interests in property that are in the United States, or that hereafter come within the United States or that are or hereafter come within the possession or control of United States persons, of: (1) The persons listed in an Annex to the Order; (2) any foreign person determined by the Secretary of Treasury, in consultation with the Attorney General and Secretary of State: (a) to play a significant role in international narcotics trafficking centered in Colombia; or (b) to materially assist in, or provide financial or technological support for or goods or services in support of, the narcotics trafficking activities of persons designated in or pursuant to the Order; and (3) persons determined by the Secretary of the Treasury, in consultation with the Attorney General and the Secretary of State, to be owned or controlled by, or to act for or on behalf of, persons designated pursuant to the Order.

On October 30, 2009, OFAC removed from the SDN List the 23 individuals and entities listed below, whose property and interests in property were blocked pursuant to the Order:

1. A G REPRESENTACIONES LTDA., Calle 22 Norte No. 9-43, Cali, Colombia; Calle 20N No. 5N-26 Of. 102, Cali, Colombia; NIT # 800132578-3 (Colombia) [SDNT].

2. ARDILA HUYO, Jorge Armando, c/o INTERNACIONAL DE DIVISAS S.A., Cali, Colombia; c/o INTERNACIONAL DE DIVISAS S.A., LLC, Miami, FL; c/o OBURSATILES S.A., Cali, Colombia; c/o A G REPRESENTACIONES LTDA., Cali, Colombia; c/o GALAVIZ CORPORATION, LTD., Cali, Colombia; c/o GALAVIZ CORPORATION, LTD., Miami, FL; c/o GALAVIZ CORPORATION, LTD., Nassau, Bahamas, The; c/o VALORCORP S.A., Bogota, Colombia; DOB 7 Feb 1960; Cedula No. 16448389 (Colombia); Passport 16448389 (Colombia) (individual) [SDNT].

3. ARDILA HUYO, Luis Alejandro, c/o INTERNACIONAL DE DIVISAS S.A., Cali, Colombia; c/o INTERNACIONAL DE DIVISAS S.A., LLC, Miami, FL; c/o OBURSATILES S.A., Cali, Colombia; c/o ARDILA-MARMOLEJO, LTD., Nassau, Bahamas, The; c/o A-G REPRESENTACIONES LTDA., Cali, Colombia; c/o GALAVIZ CORPORATION, LTD., Cali, Colombia; c/o GALAVIZ CORPORATION, LTD., Miami, FL; c/o GALAVIZ CORPORATION, LTD., Nassau, Bahamas, The; c/o VALORCORP S.A., Bogota, Colombia; DOB 4 Jan 1962; Cedula No. 16670574 (Colombia); Passport AF924686 (Colombia) (individual) [SDNT].

4. ARDILA-MARMOLEJO, LTD. (f.k.a. HUYO-GIRALDO, LTD.), Nassau, Bahamas, The; Business Registration Document # 88,046 B (Bahamas, The) [SDNT].

5. GALAVIZ CORPORATION, LTD., 7801 NW 37 Street No. 152059, Miami, FL 33166; Avenida 4 Norte 6N-67 Of. 705, Cali, Colombia; Nassau, Bahamas, The [SDNT].

6. INTERNACIONAL DE DIVISAS S.A., Calle 10 No. 4-40 of. 312, Cali, Colombia; Centro Comercial Cosmocentro Local 103, Cali, Colombia; Calle 19 No. 5-48 Local 226, Pereira, Colombia; Carrera 22 No. 18-65 Local 28, Manizales, Colombia; Carrera 52 No. 72-65 Local 106, Barranquilla, Colombia; Carrera 28 No. 29-06 Local 104, Palmira, Colombia; Transversal 71D No. 26-94 Sur Local 3504, Bogota, Colombia; NIT # 805013989-5 (Colombia) [SDNT].

7. INTERNACIONAL DE DIVISAS S.A., LLC, 280 Crandon Blvd., Suite 32-185, Miami, FL 33149-1540; Business Registration Document # L00000003506 (United States); US FEIN 65-0996161 (United States) [SDNT].

8. INVERSIONES CAPITAL LTDA., Calle 22 Norte No. 9-43, Cali, Colombia; NIT # 800106082-2 (Colombia) [SDNT].

9. IRAGORI TORRES, Maria Consuelo (a.k.a. IRAGORRI TORRES, Maria Consuelo), c/o INTERNACIONAL DE DIVISAS S.A., Cali, Colombia; c/o INTERNACIONAL DE DIVISAS S.A., LLC, Miami, FL; c/o OBURSATILES S.A., Cali, Colombia; c/o SEPULVEDA-IRAGORRI LTD., Nassau, Bahamas, The; c/o ALERO S.A., Cali, Colombia; c/o VALORCORP S.A., Bogota, Colombia; DOB 26 Apr 1964; Cedula No. 31921847 (Colombia); Passport 31921847 (Colombia) (individual) [SDNT].

10. KESMAN OVERSEAS, 3rd Floor, Geneva Place, Waterfront Drive, Road Town, Tortola, Virgin Islands, British [SDNT].

11. MAHECHA JARAMILLO, Cesar Javier, c/o OBURSATILES S.A., Cali, Colombia; DOB 22 Dec 1967; Cedula No. 16746488 (Colombia); Passport 16746488 (Colombia) (individual) [SDNT].

12. NAVIA DIAZ, Ricardo Alberto, c/o INTERNACIONAL DE DIVISAS S.A., Cali, Colombia; c/o INTERNACIONAL DE DIVISAS S.A., LLC, Miami, FL; c/o OBURSATILES S.A., Cali, Colombia; DOB 11 Nov 1961; Cedula No. 16662355 (Colombia); Passport 16662355 (Colombia) (individual) [SDNT].

13. REPRESENTACIONES ZATZA LTDA., Calle 11 No. 16-23, Cali, Colombia; NIT # 805011682-0 (Colombia) [SDNT].

14. SALCEDO MARTINEZ, Myriam (a.k.a. SALCEDO DE VARGAS, Myriam), c/o FUNDACION VIVIR MEJOR, Cali, Colombia; c/o FUNDASER, Cali, Colombia; Cedula No. 41572808 (Colombia); Passport 41572808 (Colombia) (individual) [SDNT].

15. SANCLEMENTE BEDOYA, Claudia Patricia, c/o INTERNACIONAL DE DIVISAS S.A., Cali, Colombia; c/o INTERNACIONAL DE DIVISAS S.A., LLC, Miami, FL; c/o OBURSATILES S.A., Cali, Colombia; c/o VALORCORP S.A., Bogota, Colombia; DOB 5 Dec 1968; Cedula No. 31999055 (Colombia); Passport 31999055 (Colombia) (individual) [SDNT].

16. SARASTI GUERRERO, Rodrigo Jose, Avenida 10 Norte No. 18-35, Cali, Colombia; c/o KESMAN OVERSEAS, Road Town, Tortola, Virgin Islands, British; c/o OBURSATILES S.A., Cali, Colombia; c/o ZARATAN CORPORATION, Cali, Colombia; c/o ZARATAN CORPORATION, Road Town, Tortola, Virgin Islands, British; DOB 25 Aug 1964; Cedula No. 16699921 (Colombia); Passport 16699921 (Colombia) (individual) [SDNT].

17. SEPULVEDA ZAPATA, Efrain Hernan, c/o INTERNACIONAL DE DIVISAS S.A., Cali, Colombia; c/o INTERNACIONAL DE DIVISAS S.A., LLC, Miami, FL; c/o OBURSATILES S.A., Cali, Colombia; c/o SEPULVEDA-IRAGORRI LTD., Nassau, Bahamas, The; c/o REPRESENTACIONES ZATZA LTDA., Cali, Colombia; c/o VALORCORP S.A., Bogota, Colombia; DOB 21 Mar 1960; Cedula No. 16449272 (Colombia); Passport 16449272 (Colombia) (individual) [SDNT].

18. SEPULVEDA-IRAGORRI, INC., 4382 Fox Ridge Dr., Weston, FL 33331; Business Registration Document # P00000115667 (United States); US FEIN 65-1062397 [BPI-SDNT].

19. SEPULVEDA-IRAGORRI, LTD., Calle 6 Oeste No. 4-200 apt. 202, Cali, Colombia; Nassau, Bahamas, The [SDNT].

20. VALERO JIMENEZ, Luis Hernan, Avenida 4N No. 19N-34, Cali, Colombia; Spain; c/o VALERO Y ASOCIADOS GABINETE JURIDICO S.L., Valencia, Spain; Paseo Murviedro Monte Picayo, No. 14, Pucol, Valencia, Spain; DOB 22 Sep 1965; Cedula No. 16723237 (Colombia); Passport 16723237 (Colombia) (individual) [SDNT].

21. VALERO Y ASOCIADOS GABINETE JURIDICO S.L., Paseo Alameda, 60, Valencia 46023, Spain; C.I.F. B97393029 (Spain) [SDNT].

22. VALORES CORPORATIVOS S.A. (a.k.a. VALORCORP S.A.), Transversal 9 No. 55-97 Of. 401, Bogota, Colombia; NIT # 830015542-7 (Colombia) [SDNT].

23. ZARATAN CORPORATION, Avenida 4 Norte No. 4N-30, Cali, Colombia; Calle 7 Oeste No. 1-13, Cali, Colombia; Vanterpool Plaza, P.O. Box 873, Wickhams Cay I, Road Town, Tortola, Virgin Islands, British [SDNT].

Dated: October 30, 2009.
Barbara C. Hammerle,
Acting Director, Office of Foreign Assets Control.

[FR Doc. E9-26655 Filed 11-4-09; 8:45 am]

BILLING CODE 4811-45-P